DEPARTMENT OF THE INTERIOR

Bureau of Land Management

[LLORB00000.L10200000.PH0000.L.X.SS.036H0000.13XL1109AF; HAG13-0042]

Southeast Oregon Resource Advisory Council; Public Meeting

AGENCY: Bureau of Land Management, Interior.

ACTION: Notice of public meetings.

SUMMARY: In accordance with the Federal Land Policy and Management Act and the Federal Advisory Committee Act of 1972, and the U.S. Department of the Interior, Bureau of Land Management (BLM), the Southeast Oregon Resource Advisory Council (RAC) will meet as indicated below:

DATES: The Southeast Oregon RAC will tentatively hold public meetings January 28-29, 2013, in Lakeview, Oregon, April 22-23, 2013, in Ontario, Oregon, and June 17-18, 2013, in Burns, Oregon. Public comment periods will be scheduled each day of each meeting. Logistical details and a complete agenda for each session will be available 2-4 weeks prior to the session. Meeting dates, times, locations and the duration scheduled for public comment periods may be extended or altered when the authorized representative considers it necessary to accommodate necessary business and all who seek to be heard regarding matters before the Southeast Oregon RAC.

FOR FURTHER INFORMATION CONTACT: Tara Martinak, Public Affairs Specialist, BLM Burns District Office, 28910 Highway 20 West, Hines, Oregon 97738-9424, (541) 573-4519, or email tmartina@blm.gov. Persons who use a telecommunications device for the deaf (TDD) may call the Federal Information Relay Service (FIRS) at 1(800) 877-8339 to contact the above individual during normal business hours. The FIRS is available 24 hours a day, 7 days a week, to leave a message or question with the above individual. You will receive a reply during normal business hours.

SUPPLEMENTARY INFORMATION: The Southeast Oregon RAC consists of 15 members chartered and appointed by the Secretary of the Interior. Their diverse perspectives are represented in commodity, conservation, and general interests. They provide advice to BLM and Forest Service resource managers regarding management plans and proposed resource actions on public land in southeast Oregon.

Tentative agenda items for the upcoming meetings include but are not limited to: Travel management planning; Cooperative Conservation Agreements (CCA) and CCA's with Assurances; Greater Sage Grouse habitat and conservation; Resource Management Plan amendments; wildfires and stabilization and rehabilitation work; vegetation treatments, management, and planning efforts; wilderness, wilderness study areas, and wilderness characteristics inventories; energy developments on public lands; and, wild horses and wild horse management. Any other matters that may reasonably come before the Southeast Oregon RAC may also be addressed. All meetings are open to the public in their entirety. Information to be distributed to the Southeast Oregon RAC is requested prior to the start of each meeting.

Before including your address, phone number, email address, or other personal identifying information in your comments, please be aware that your entire comment—including your personal identifying information—may be made publicly available at any time. While you can ask us in your comment to withhold your personal identifying information from public review, we cannot guarantee that we will be able to do so.

Brendan Cain,
BLM Burns District Manager.

[FR Doc. 2012-27616 Filed 11-13-12; 8:45 am]

BILLING CODE 4310-33-P